DEPARTMENT OF COMMERCE

Foreign-Trade Zones Board

[B-08-2019]

Foreign-Trade Zone (FTZ) 12—McAllen, Texas; Notification of Proposed Production Activity; Universal Metal Products, Inc.; (Formed and Converted Metal for Commercial and Industrial Use); Pharr, Texas

Universal Metal Products, Inc. (UMP) submitted a notification of proposed production activity to the FTZ Board for its facility in Pharr, Texas. The notification conforming to the requirements of the regulations of the FTZ Board (15 CFR 400.22) was received on February 19, 2019.

The UMP facility is located within Subzone 12B. The facility will be used for the stripping, bending, stamping, sanding, grinding, sawing, welding, riveting, tapping, washing, and heat treating of steel sheets and coils, and other metallic components, into parts for commercial and industrial use. Pursuant to 15 CFR 400.14(b), FTZ activity would be limited to the specific foreign-status materials/components and specific finished products described in the submitted notification (as described below) and subsequently authorized by the FTZ Board.

Production under FTZ procedures could exempt UMP from customs duty payments on the foreign-status materials/components used in export production. On its domestic sales, for the foreign-status materials/components noted below, UMP would be able to choose the duty rates during customs entry procedures that apply to: Airbag bracket; airbag propellent holder; various aluminized steel products (bracket; control mounting plate; element support plate; extension arm; heater assembly; heater duct; heater element housing; heater plate; housing receptacle; insulator plate; switch frame; tap plate); various aluminum products (bracket; mounting foot; pad backing plate; shim); annealed steel shim; battery terminal assembly; brass mounting clamp ferrule; clinch stud retainer with studs; clutch fork; various cold rolled steel products (anti-lock braking system case; bracket; cover grommet; end cap; hinge butt; lap anchor PT guide plate; latch; mounting clamp; mounting feet; plug; retainer; sleeve insert; torque limiter; tubular rivet); various copper products (battery terminal; bus bar; flange; lug; terminal assembly); front stabilizer bracket; various galvanized steel products (adjustable roller bracket sub-assembly; bracket; channel; control board housing; control box; control box cover; cover plate; flange; flange plate; heater plate; housing control mounting board; mechanical and electrical control cover; mounting collar; mounting strap; plate reinforcement; plate volume compensator; retainer; shield; terminal plate; top panel support; water valve cover); high strength low alloy steel buckle strap; hinge assembly; hinge butt assembly; hinge pin assembly; various hot rolled pickled/oiled steel products (bracket; clamp; flange; lever); various hot rolled steel products (base plate; bottom clamp; bracket; buckle strap; cam plate; clamp; clamp cover; directional fork; electrical box-metal; gearbox fork; inversion fork; lever; metal blank; mounting bracket; ramp support; stabilizer clip; stamp bed base angle; strap; wiring harness clamp); iron/steel brake fork; iron/steel weld nut bracket; metal shaft; mounting bracket assembly; plastic wheel adjustable roller bracket sub-assembly; retainer with studs; various stainless steel products (bracket; electrical component bracket; handle; latch; latch mechanism; mounting foot; sleeve coupling; stake lock); various steel products (adjustable roller bracket sub-assembly; hinge; hinge blade; nut bracket; nut terminal assembly; pin bracket; rivet adjustable roller bracket sub-assembly); various steel/aluminum products (two-way bracket; bracket; frame bracket; mounting clamp bracket; retractor bracket; shield bracket); steel/iron hinge assembly; various steel, auto standard products (base plate; bracket; cam plate; hinge butt; spiral cam; tap plate); stud biter bracket; various tin plated copper products (sensor power load shield; sleeve overlap; sleeve shield); and, wire mounting spring (duty rate ranges from duty-free to 5.7%). UMP would be able to avoid duty on foreign-status components which become scrap/waste. Customs duties also could possibly be deferred or reduced on foreign-status production equipment.

The materials/components sourced from abroad include: Various airbag components (bracket; propellent holder; retainer with studs); aluminized steel sheet and coil; aluminum sheet; brass sheet and coil; cold rolled steel sheet and coil; copper sheet and coil; electrical terminal; foam pad; galvanized steel sheet and coil; high strength low alloy steel; hot rolled pickled/oiled steel sheet and coil; hot rolled steel sheet and coil; various iron/steel components (axle fork; brake fork; clinch stud; hinge; hinge butt; hinge pin); metal shaft; mounting spring wire; plastic roller wheel; stainless steel bars and rods; stainless steel sheet and coil; various steel components (nut; pin; rivet); various steel/aluminum components (two-way bracket; bracket; frame bracket; mounting clamp bracket; roller bracket; shield bracket); steel sheet and coil; stud biter; tin plated copper; and, weld nut (duty rate ranges from duty-free to 5.3%). The request indicates that the following components are subject to an antidumping/countervailing duty (AD/CVD) order/investigation if imported from certain countries: Aluminized steel sheet and coil; aluminum sheet; cold rolled steel sheet and coil; galvanized steel sheet and coil; high strength low alloy steel; hot rolled pickled/oiled steel sheet and coil; hot rolled steel sheet and coil; various iron/steel components (clinch stud; hinge; hinge butt; hinge pin); stainless steel bars and rods; stainless steel sheet and oil; steel rivet; various steel/aluminum components (two-way bracket; bracket; frame bracket; mounting clamp bracket; roller bracket; shield bracket); steel sheet and coil; and, stud biter. The FTZ Board's regulations (15 CFR 400.14(e)) require that merchandise subject to AD/CVD orders, or items which would be otherwise subject to suspension of liquidation under AD/CVD procedures if they entered U.S. customs territory, be admitted to the zone in privileged foreign status (19 CFR 146.41). The request also indicates that certain materials/components are subject to special duties under Section 232 of the Trade Expansion Act of 1962 (Section 232) or Section 301 of the Trade Act of 1974 (Section 301), depending on the country of origin. The applicable Section 232 and Section 301 decisions require subject merchandise to be admitted to FTZs in privileged foreign status.

Public comment is invited from interested parties. Submissions shall be addressed to the Board's Executive Secretary at the address below. The closing period for their receipt is April 24, 2019.

A copy of the notification will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Juanita Chen at juanita.chen@trade.gov or 202-482-1378.

Dated: March 11, 2019.
Andrew McGilvray,
Executive Secretary.

[FR Doc. 2019-04878 Filed 3-14-19; 8:45 am]

BILLING CODE 3510-DS-P